ENVIRONMENTAL PROTECTION AGENCY

[FRL-9923-16-Region 6]

Clean Air Act Operating Permit Program; Petitions for Objection to State Operating Permits for Luminant Generating Company, LLC Steam Electric Generating Stations Martin Lake, Monticello, and Big Brown in Texas

AGENCY: Environmental Protection Agency (EPA).

ACTION: Notice of final action.

SUMMARY: Pursuant to Clean Air Act (CAA) Section 505(b)(2) and 40 CFR 70.8(d), the EPA Administrator signed an Order, dated January 23, 2015, denying in part three petitions asking the EPA to object to operating permits issued by the Texas Commission on Environmental Quality (TCEQ) to Luminant Generating Company, LLC (Luminant) relating to three coal fired steam electric generating stations (SES) located in East and Northeast Texas. Title V operating permit number O53 was issued by the TCEQ to Luminant for the Martin Lake SES located in Rusk County, Texas. Title V operating permit number O64 was issued to Luminant for the Monticello SES located in Titus County, Texas, while title V operating permit number O65 was issued to Luminant for the Big Brown SES located in Freestone County, Texas. The EPA's January 23, 2015 Order responds to the three petitions submitted by the Environmental Integrity Project (EIP) representing themselves and on behalf of Sierra Club (collectively, the Petitioners): the petition addressing the Martin Lake permit was received on February 26, 2014, while the petitions addressing the Monticello permit and Big Brown permit were both received on March 4, 2014. Sections 307(b) and 505(b)(2) of the Act provide that a petitioner may ask for judicial review of those portions of the Orders that deny objections raised in the petitions by the United States Court of Appeals for the appropriate circuit. Any petition for review shall be filed within 60 days from the date this notice appears in the Federal Register, pursuant to section 307(b) of the Act.

ADDRESSES: You may review copies of the final Orders, the petitions, and other supporting information at EPA Region 6, 1445 Ross Avenue, Dallas, Texas 75202-2733.

For Information: Please contact Brad Toups at (214) 665-7258, email address: toups.brad@epa.gov or the above EPA, Region 6 address, to view copies of the final Orders, petitions, and other supporting information. You may view the hard copies Monday through Friday, from 9:00 a.m. to 3:00 p.m., excluding Federal holidays. If you wish to examine these documents, you should make an appointment at least 24 hours before the visiting day. Additionally, the final January 23, 2015 Order is available electronically at: http://www.epa.gov/region07/air/title5/petitiondb/petitions/luminant_response2014.pdf.

SUPPLEMENTARY INFORMATION: The CAA affords the EPA a 45-day period to review, and object, as appropriate, to a title V operating permit proposed by a state permitting authority. Section 505(b)(2) of the CAA authorizes any person to petition the EPA Administrator, within 60 days after the expiration of this review period, to object to a title V operating permit if the EPA has not done so. Petitions must be based only on objections to the permit that were raised with reasonable specificity during the public comment period provided by the state, unless the petitioner demonstrates that it was impracticable to raise these issues during the comment period or unless the grounds for the issue arose after this period.

The EPA received three petitions from the Petitioners, one dated February 26, 2014 for the Martin Lake permit, and one each dated March 3, 2014 for the Monticello and Big Brown permits, to object to operating permits issued to Luminant Generating Company, LLC relating respectively to facilities located in Rusk, Titus, and Freestone counties, Texas.

The Order issued on January 23, 2015 responds to claim V.A of the Martin Lake Petition (pp. 5-9), the Monticello Petition (pp. 5-11) and the Big Brown Petition (pp. 7-14) raised by EIP, the Sierra Club having withdrawn all of their objections prior to the issuance of the order. The EIP requested that the Administrator object to the proposed operating permits issued by the TCEQ to Luminant on several bases. The three petitions did not raise identical claims; however, three common claims are addressed in the issued order. The remaining issues are to be withdrawn by the petitioner in accordance with a settlement agreement reached on January 22, 2015 between the Petitioner and the EPA.

The claims are described in detail in Section IV of the Order. In summary, the issues raised are that: (1) the Compliance Assurance Monitoring (CAM) provisions in the Martin Lake, Monticello and Big Brown permits do not assure compliance with the applicable particulate matter (PM) emission limit during periods of startup, shutdown, maintenance and malfunction; (2) the record supporting the CAM opacity indicator ranges for PM for Monticello Units 1, 2 and 3 is deficient and not based on reliable data; and (3) the Big Brown permit must be revised to ensure that any credible evidence may be used to demonstrate noncompliance with applicable requirements.

Due to significant overlap in the issues raised in the Petitions and the similarity of the relevant permit conditions in each of the three permits, the EPA is responding to the identified portion of all three Petitions in this Order on January 23, 2015. The EPA's rationale for denying the addressed claims is described in the Order.

Dated: February 9, 2015.
Ron Curry,
Regional Administrator, Region 6.

[FR Doc. 2015-03583 Filed 2-20-15; 8:45 am]

BILLING CODE 6560-50-P